DEPARTMENT OF ENERGY

Federal Energy Regulatory Commission

[Docket Nos. CP12-490-000; RP12-887-000; Docket No. CP12-489-000]

Tennessee Gas Pipeline Company, L.L.C.; Kinetica Energy Express, LLC; Notice of Applications and Offer of Settlement

Take notice that on July 26, 2012, Tennessee Gas Pipeline Company, L.L.C. (Tennessee), 1001 Louisiana Street, Houston, Texas 77002, filed in Docket No. CP12-490-000 an application, pursuant to section 7(b) of the Natural Gas Act (NGA), for permission and approval to abandon by sale certain natural gas facilities located offshore in the Gulf of Mexico and onshore in the State of Louisiana (Production Area Facilities). On the same day, Tennessee filed a related Offer of Settlement pursuant to sections 385.207(a)(5) and 385.602(b) of the Commission's Rules of Practice and Procedure in Docket No. RP12-887-000 to resolve rate issues arising from the proposed abandonment by sale of the Production Area Facilities. Also take notice that on July 26, 2012, Kinetica Energy Express, LLC (Kinetica), Lyric Center, 440 Louisiana St., Suite 425, Houston, Texas 77002, filed in Docket No. CP12-489-000, an application pursuant to Section 7(c) of the NGA and Parts 157 and 284 of the Commission's regulations, requesting an order granting Kinetica: (i) A certificate of public convenience and necessity to acquire, own, and operate the Production Area Facilities to be purchased from Tennessee; (ii) a blanket construction certificate; (iii) a blanket transportation certificate; and (iv) approval of its pro forma tariff.

Specifically, Tennessee proposes to sell to Kinetica certain pipeline systems consisting of approximately 1,300 miles of various diameter pipeline, compression facilities at three locations totaling approximately 34,250 horsepower, twelve offshore platforms, and various appurtenant and auxiliary facilities. Kinetica requests authorizations necessary to acquire and operate the facilities as a new jurisdictional pipeline company. Because the effectiveness of the approval requested in each of Tennessee's filings is precedent on approval in the other, Tennessee requests that the Commission consolidate its review of the application for abandonment and the Offer of Settlement for issuance of its findings in a single order. Kinetica requests that an order be issued by March 31, 2013 granting its certificate.

Any questions regarding Tennessee's application in Docket No. CP12-490-000 and Offer of Settlement in Docket No. RP12-887-000 should be directed to Thomas G. Joyce, Manager, Rates and Regulatory Affairs, Tennessee Gas Pipeline Company, L.L.C., 101 Louisiana Street, Houston, Texas 77002, or by calling (713) 420-3299 or faxing (713) 420-1605 or email tom_joyce@kindermorgan.com or to Ms. Shannon M. Miller, Rates and Regulatory Affairs, Tennessee Gas Pipeline Company L.L.C., 101 Louisiana Street, Houston, Texas 77002, or by calling (713) 420-5535 or faxing (713) 420-1605 or email shannon_miller@kindermorgan.com.

Any questions concerning Kinetica's application in Docket No. CP12-489-000 should be directed to Diane S. Dundee, Kinetica Energy Express, LLC, Lyric Center, 440 Louisiana Street, Suite 425, Houston, Texas 77002, by calling (713) 228-3347 or email at diane.dundee@kineticallc.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Regarding Tennessee's Offer of Settlement in Docket No. RP12-887-000 filed pursuant to section 385.602 of the Commission's regulations, the due date for any initial comments regarding the Offer of Settlement is hereby set to coincide with the Comment Date shown below. Any reply comments should be filed 15 days thereafter to coincide with the Commission's Rule regarding answers to motions filed pursuant to section 385.213 as such answers would be permitted in the two related dockets, Docket Nos. CP12-490-000 and CP12-489-000.

The Commission strongly encourages electronic filings of comments, protests and interventions in lieu of paper using the “eFiling” link at http://www.ferc.gov. Persons unable to file electronically should submit an original and 7 copies of the protest or intervention to the Federal Energy Regulatory Commission, 888 First Street NE., Washington, DC 20426. This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: August 29, 2012

Dated: August 8, 2012.
Kimberly D. Bose,
Secretary.

[FR Doc. 2012-19866 Filed 8-13-12; 8:45 am]

BILLING CODE 6717-01-P